DEPARTMENT OF JUSTICE

[OMB Number 1121-NEW]

Agency Information Collection Activities; Proposed New eCollection eComments Requested; 2013 National Survey of Tribal Court Systems

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995. The proposed information collection is published to obtain comments from the public and affected agencies.

DATES: Comments are encouraged and will be accepted for 60 days until May 27, 2014.

FOR FURTHER INFORMATION CONTACT: If you have additional comments especially on the estimated public burden or associated response time, suggestions, or need a copy of the proposed information collection instrument with instructions or additional information, please contact Steven W. Perry, Statistician, Bureau of Justice Statistics, 810 Seventh Street NW., Washington, DC 20531 (phone: 202-307-0777).

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: New data collection, National Survey of Tribal Courts Systems (NSTCS), 2013

(2) The title of the Form/Collection: 2013 National Survey of Tribal Court Systems or NSTCS-13.

(3) The agency form number, if any, and the applicable component of the Department sponsoring the collection: The form labels include NSTCS-13L48; NSTCS-13AK; and NSTCS-13CFR. The applicable component within the Department of Justice is the Bureau of Justice Statistics, Office of Justice Programs.

(4) Affected public who will be asked or required to respond, as well as a brief abstract: This information collection is a census of tribal court systems that operated in Indian country during the period 2013. The Bureau of Justice Statistics (BJS) proposes to implement a National Survey of Tribal Courts (NSTCS). Tribal courts are diverse, with some being extensively elaborate in their development, some based on traditional or indigenous customs, and others are just beginning to develop a modern judicial system. Over the past decade, various legislation, including the Tribal Law and Order Act of 2010 and Violence against Women Reauthorization Act of 2013, have sought to improve public safety in Indian country through increased sentencing authority and expanded jurisdiction. Existing information on tribal courts is extremely dated or was conducted with a narrow focus and did not include the three distinctive areas of tribal courts; the lower 48 States, Alaska, and the Courts of Indian Offenses. No reliable and recurring data are collected on the volume of criminal and civil cases handle in tribal courts annually. Hence, the NSTCS will provide national level information on the administration and operation of trial and appellate courts in Indian country. The NSTCS is designed to provide BJS and other interested stakeholders with current empirical information on tribal court systems. A goal of the NSTCS is to obtain national statistics on staffing; budgets; prosecution, public defense and civil legal services; juvenile justice; domestic violence and protection orders; enhance sentencing and jurisdiction capacity; and criminal justice database access and reporting. This will help BJS generate aggregate statistics on the magnitude and types of cases handled in tribal courts, as well establish baseline measures for comparisons in future iterations. Information will be collected for calendar year 2013.

(5) An estimate of the total number of respondents and the amount of time estimated for an average respondent to respond: An estimated 300 respondents (tribal courts) will take part in the National Survey of Tribal Courts Systems 2013. Based on pilot testing an average of 2 hours each is needed to complete the form appropriate for the tribal system: NSTCS-13L48, NSTCS-13AK, or NSTCS-13CFR. The estimated range of burden for respondents is expected to be between 1.5 to 2.5 hours for completion. The following factors were considered when creating the burden estimate: the estimated total number of tribal courts, the ability of tribal courts to access or gather the data, and the information systems capabilities generally found within Indian country. BJS estimates that nearly all of the approximately 300 respondents will fully complete the questionnaire.

(6) An estimate of the total public burden (in hours) associated with the collection: The estimated public burden associated with this collection is 600 hours. It is estimated that respondents will take 2 hours to complete a questionnaire. The burden hours for collecting respondent data sum to 600 hours (300 respondents × 2 hours = 600 hours).

If additional information is required contact: Jerri Murray, Department Clearance Officer, United States Department of Justice, Justice Management Division, Policy and Planning Staff, Two Constitution Square, 145 N Street NE., Suite 3W-1407B, Washington, DC 20530.

Dated: March 19, 2014.
Jerri Murray,
Department Clearance Officer for PRA, U.S. Department of Justice.

[FR Doc. 2014-06442 Filed 3-24-14; 8:45 am]

BILLING CODE 4410-18-P